DEPARTMENT OF STATE

[Public Notice 5378]

Revised Notice of Meeting of the Advisory Committee on International Law

A meeting of the Advisory Committee on International Law will take place on Friday, April 28, 2006, from 10 a.m. to approximately 4 p.m., as necessary, in Room 1105 of the United States Department of State, 2201 C Street, NW., Washington, DC. The meeting will be chaired by the Legal Adviser of the Department of State, John B. Bellinger, III, and will be open to the public up to the capacity of the meeting room. The meeting will discuss various issues relating to current international legal topics, including the law of armed conflict and human rights, immunity for visiting artworks, international criminal accountability, and current issues related to nuclear cooperation.

Entry to the building is controlled and will be facilitated by advance arrangements. Members of the public desiring access to the session should, by Tuesday, April 25, 2006, notify the Office of the Assistant Legal Adviser for United Nations Affairs (telephone: 202-647-2767) of their name, date of birth; citizenship (country); ID number, i.e., U.S. government ID (agency), U.S. military ID (branch), passport (country), or drivers license (state); professional affiliation, address and telephone number in order to arrange admittance. This includes admittance for government employees as well as others. All attendees must use the “C” Street entrance, after being screened through the exterior screening facilities. One of the following valid IDs will be required for admittance: Any U.S. driver's license with photo, a passport, or a U.S. Government agency ID. Because an escort is required at all times, attendees should expect to remain in the meeting for the entire morning or afternoon session.

Dated: April 19, 2006.
Judith L. Osborn,
Attorney-Adviser, Office of United Nations Affairs, Office of the Legal Adviser, Executive Director, Advisory Committee on International Law, Department of State.

[FR Doc. 06-3902 Filed 4-21-06; 8:45 am]

BILLING CODE 4710-08-P